DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1129.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Area Health Education Centers Project on the Mental and Behavioral Health and Substance Abuse Issues of Veterans/Service Members and Their Families (OMB No. 0915-xxxx) − [NEW].

The Area Health Education Centers (AHEC) Program consists of interdisciplinary, community-based, primary care training programs where academic and community-based leaders work to improve the distribution, diversity, supply, and quality of health care personnel. The AHEC Program grantees include schools of medicine or osteopathic medicine, an incorporated consortium of such schools, or the parent institution of such schools. In a State with no AHEC program in operation, a school of nursing is eligible to apply. AHEC grantees contract with community-based AHEC centers to implement educational activities that involve several health professions disciplines and expose students to primary care and the needs of underserved areas and health disparity populations. The training of primary care personnel is a central focus of AHEC programs, where emphasis is placed on training individuals in primary care delivery sites (in both rural and other underserved areas). The AHEC programs and centers, along with State and local partners, implement student training programs, continuing education for healthcare providers, and health careers outreach activities that are responsive to the current healthcare workforce and service needs of underserved areas and health disparity populations of a state or region.

The AHEC Program is implementing a project to provide high quality, culturally competent care to veterans/service members and their families by providing continuing education (CE) to civilian primary care, mental and behavioral health, and other healthcare providers. The purpose of these data collection instruments, including the CE Evaluation Results Form and the CE Evaluation Follow-Up Form, is to provide data to inform and support the evaluation of the project, assess the extent to which the CE provided affected a provider's clinical or administrative practice, and provide aggregate information about the providers trained and project activities.

Instrument | Number of respondents | Responses per respondent | Total responses | Hours per response | Total burden hours
CE Evaluation Results Form | 10,000 | 1 | 10,000 | .5 | 5,000
CE Evaluation Follow-Up Form | 2,000 | 1 | 2,000 | .17 | 340
Total | ¹ 10,000 |  |  |  | 5,340
¹ The CE Evaluation Follow-Up Form will only be completed by a sample of the total CE participants. Thus, the 2,000 respondents will not be unique respondents, but instead a sub-set of the CE Evaluation Results Form respondents.

The annual estimate of burden is as follows:

Email comments to paperwork@hrsa.gov or mail the HRSA Reports Clearance Officer, Room 10-33, Parklawn Building, 5600 Fishers Lane, Rockville, MD 20857. Written comments should be received within 60 days of this notice.

December 21, 2011.
Reva Harris,
Acting Director, Division of Policy and Information Coordination.

[FR Doc. 2011-33295 Filed 12-27-11; 8:45 am]

BILLING CODE 4165-15-P